Memorandum of January 6, 2025

Withdrawal of Certain Areas of the United States Outer Continental Shelf From Oil and Natural Gas Leasing

Memorandum for the Secretary of the Interior

Consistent with principles of responsible public stewardship, and with due consideration of the irreplaceable marine and coastal environments, including wildlife and wildlife habitat, of the Gulf of Mexico, Atlantic, and Pacific areas of the Outer Continental Shelf; and independently with due consideration of the vulnerability of these ecosystems and coastal communities, where limited or no oil and natural gas development has yet occurred, to oil spills; and independently with due consideration of the benefits of expeditious and orderly development of the vital renewable energy resources of the Gulf of Mexico, Atlantic, and Pacific areas of the Outer Continental Shelf; and independently with due consideration of the national need to curtail, mitigate, build resilience against, and adapt to the devastating and irreversible consequences of climate change for the human environment and for the marine and coastal environments, I hereby direct as follows:

Under the authority granted to me in section 12(a) of the Outer Continental Shelf Lands Act, 43 U.S.C. 1341(a), I hereby withdraw from disposition by oil or natural gas leasing for a time period without specific expiration:

(a) the areas designated by the Bureau of Ocean Energy Management as the North Atlantic, Mid-Atlantic, South Atlantic, and Straits of Florida Planning Areas of the Outer Continental Shelf;

(b) the areas of the Outer Continental Shelf designated by section 104(a) of the Gulf of Mexico Energy Security Act of 2006 (Public Law 109-432); and

(c) the areas designated by the Bureau of Ocean Energy Management as the Washington/Oregon, Northern California, Central California, and Southern California Planning Areas of the Outer Continental Shelf.

The boundaries of the withdrawn areas are more specifically delineated in the attached map. The map forms a part of this memorandum. The withdrawal directed by this memorandum prevents consideration of withdrawn areas for any future oil or natural gas leasing for purposes of exploration, development, or production.

Nothing in this withdrawal affects rights under existing leases in the withdrawn areas.

THE WHITE HOUSE,

Washington, January 6, 2025

Billing code 3395-F4-P

[FR Doc. 2025-01464

Filed 1-16-25; 2:00 pm]

Billing code 4310-10-C